DEPARTMENT OF COMMERCE

Census Bureau

Proposed Information Collection; Comment Request; Quarterly Services Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 15, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Lisa Donaldson, U.S. Census Bureau, 8K041, Washington, DC 20233-6500, and 301-763-7296.

SUPPLEMENTARY INFORMATION:

I. Abstract

The U.S. Census Bureau conducts a quarterly survey of service industry production—the Quarterly Services Survey (QSS). The QSS is a principal economic indicator series that produces, for selected service industries, quarterly estimates of total operating revenue and the percentage of revenue by class of customer. The survey also produces estimates of total operating expenses from tax-exempt firms in industries that have a large not-for-profit component. In addition, for hospital services, the survey estimates the number of inpatient days and discharge admissions. Current selected service industries include information services; professional scientific and technical services; hospitals; nursing and residential care facilities; administrative and support and waste management and remediation services; ambulatory health care services; social assistance; credit intermediation and related activities; securities, commodity contracts, and other financial investments and related activities; truck transportation; courier and messengers; warehousing and storage; rental and leasing services; arts, entertainment, and recreation; and other services except public administration.

Data are collected from all of the largest firms and from a sample of small- and medium-sized businesses selected using a stratified sampling procedure. Each quarter the sample is updated to reflect the addition of new business births and firms and organizations that have gone out-of-business.

The Bureau of Economic Analysis uses data gathered in this survey in developing its quarterly Gross Domestic Product (GDP) and GDP by industry estimates. The data provide the Federal Reserve Board and Council of Economic advisors with timely information to assess current economic performance. Other government and private stakeholders also benefit from a better understanding of important cyclical components of our economy.

We are expanding the industry coverage of the QSS to include utilities; air transportation; water transportation; transit and ground passenger transportation; pipeline transportation; scenic and sightseeing transportation; support activities for transportation; monetary authorities-central bank; insurance carriers and related services; real estate; lessors of nonfinancial intangible assets (except copyrighted works); and educational services. For expanded industries, the survey will produce estimates of total operating revenue and operating expenses from the tax-exempt firms in industries that have a large not-for-profit component.

II. Method of Collection

The Census Bureau will collect this information by mail, fax, Internet, and a telephone follow-up.

III. Data

OMB Control Number: 0607-0907.

Form Number: QSS-1(A), QSS-1(E), QSS-2(A), QSS-2(E), QSS-3(A), QSS-3(E), QSS-4(A), QSS-4(E), QSS-5(A), QSS-5(E), QSS-1A-PEO, QSS-1E-PEO.

Type of Review: Regular submission.

Affected Public: Businesses or other for-profit organizations, not-for-profit institutions, and government hospitals.

Estimated Number of Respondents: 15,400.

Estimated Time per Response: QSS-1(A), QSS-1(E), QSS-2(A), QSS-2(E), QSS-3(A), QSS-3(E), QSS-5(A), QSS-5(E), QSS-1A-PEO, QSS-1E-PEO: 15 minutes, QSS-4(A), QSS-4(E): 10 minutes.

Estimated Total Annual Burden Hours: 13,500.

Estimated Total Annual Cost: $370,305.

Respondents Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 8, 2009.
Glenna Mickelson,
Management Analyst, Office of the Chief Information Officer.

[FR Doc. E9-8403 Filed 4-13-09; 8:45 am]

BILLING CODE 3510-07-P